DEPARTMENT OF THE TREASURY

Internal Revenue Service

26 CFR Part 1

[REG-121475-03]

RIN 1545-BC61

Qualified Zone Academy Bonds; Obligations of States and Political Subdivisions; Hearing

AGENCY: Internal Revenue Service (IRS), Treasury.

ACTION: Cancellation of notice of public hearing on proposed rulemaking.

SUMMARY: This document provides notice of cancellation of a public hearing on proposed rulemaking relating to qualified zone academy bonds and the obligations of States and political subdivisions.

DATES: The public hearing originally scheduled for Wednesday, July 21, 2004, at 10 a.m. is cancelled.

FOR FURTHER INFORMATION CONTACT: Guy R. Traynor of the Publication & Regulations Branch, Procedures & Administration, Associate Chief Counsel, 202-622-3693 (not a toll-free number).

SUPPLEMENTARY INFORMATION: A notice of proposed rulemaking and notice of public hearing that appearing in the Federal Register on Friday, March 26, 2004 (69 FR 15747), announced that a public hearing was scheduled for July 21, 2004 at 10 a.m., in the auditorium of the Internal Revenue Building, 1111 Constitution Avenue, NW., Washington, DC. The subject of the public hearing is proposed regulations under section 1397E, of the Internal Revenue Code. The public comment period for these proposed regulations expired on June 24, 2004.

The notice of proposed rulemaking and notice of public hearing instructed those interested in testifying at the public hearing to submit a request to speak and an outline of topics to be addressed by July 12, 2004. As of July 13, 2004, no one has requested to speak. Therefore, the public hearing scheduled for July 21, 2004, is cancelled.

Guy R. Traynor,
Federal Register Liaison, Publications & Regulations Br., Legal Processing Division, Associate Chief Counsel (Procedures & Administration).

[FR Doc. 04-16235 Filed 7-16-04; 8:45 am]

BILLING CODE 4830-01-P